DEPARTMENT OF HEALTH AND HUMAN SERVICES

Centers for Disease Control and Prevention (CDC)

Emergency Funding for New York City Legionella Outbreak

AGENCY: Centers for Disease Control and Prevention (CDC), Department of Health and Human Services (DHHS).

ACTION: Notice.

SUMMARY: The U.S. Centers for Disease Control and Prevention (CDC) is providing $1,300,000 in urgent funding through the Epidemiology and Laboratory Capacity for Infectious Diseases (ELC) Cooperative Agreement to the New York City Department of Health (NYC HD)to combat an outbreak of Legionella. As of August 18, 2015 NYC HD has identified 127 cases and 12 deaths associated with this public health emergency. These funds will be used by NYC HD to (1) create sustainable environmental and laboratory capacity at NYC HD to respond to Legionella outbreak, (2) enhance laboratory capacity of detection, isolation, and molecular characterization of clinical and environmental strains at the New York City public health laboratory, (3) include sequence-based typing and eventually whole genome sequencing, and (4) allow NYC HD to characterize the geographic distribution of Legionella strains throughout New York City, support the new public health engineering program to monitor the compliance of building owners with the new cooling tower regulations, and work with CDC to evaluate the impact of these regulations.

DATES: Effective date is date of publication in the Federal Register.

ADDRESSES: Alvin Shultz, MSPH, Division of Preparedness and Emerging Infectious, National Center for Emerging and Zoonotic Infectious Diseases, Centers for Disease Control and Prevention, 1600 Clifton Road NE., Atlanta, GA 30333, Phone: 404-639-7028, E-Mail: Ashultz@cdc.gov.

FOR FURTHER INFORMATION CONTACT: Alvin Shultz, MSPH, Division of Preparedness and Emerging Infectious, National Center for Emerging and Zoonotic Infectious, Diseases Centers for Disease Control and Prevention, 3311 Toledo Road, Room 4204, Hyattsville, MD 20782 Phone: 301-458-4371, FAX: 301-458-4028, E-Mail: NHANESgenetics@cdc.gov.

Dated: September 23, 2015.
Terrance Perry,
Director, Office of Grants Services, Centers for Disease Control and Prevention.

[FR Doc. 2015-24564 Filed 9-25-15; 8:45 am]

BILLING CODE 4163-18-P